DEPARTMENT OF TRANSPORTATION

Pipeline and Hazardous Materials Safety Administration

Hazardous Materials; Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 18, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on January 09, 2020.
Donald P. Burger,
Chief, General Approvals and Permits Branch.

Special Permits Data
Application Number | Applicant | Regulation(s) affected | Nature of the special permits thereof
20985-N | Fetch Robotics Inc | 172.101(j) | To authorize the transportation in commerce of lithium ion batteries exceeding 35 kg by cargo-only aircraft. (mode 4).
20986-N | Olin Corporation | 172.302(c), 173.26, 173.314(c), 179.13(b) | To authorize the transportation in commerce of tank cars containing chlorine in quantities exceeding those authorized in the HMR. (mode 2).
20988-N | I-k-i Manufacturing Co., Inc | 173.306(a)(5) | To authorize the transportation in commerce of inner receptacles containing flammable gas that are eligible for the limited quantity exception in 49 CFR 173.306(a)(5). (modes 1, 2, 3, 4, 5).
20990-N | Psc Custom Lp | 172.101(i)(3) | To authorize the transportation in commerce of methane gas in nurse tanks. (mode 1).
20991-N | Veolia ES Technical Solutions LLC | 173.51, 173.54(a), 173.56(b), 173.21(b) | To authorize the one-time, one-way transportation of unapproved cartridges for tools for the purpose of disposal. (mode 1).
20992-N | Daicel Safety Systems Americas, Inc | 173.302a(a)(1), 178.65(c)(3) | To authorize the manufacture, marking, sale, and use of non-DOT specification cylinders (pressure vessels) for use as components of automobile vehicle safety systems. These pressure vessels may be charged with non-toxic, non-liquefied gases or mixtures thereof. (modes 1, 2, 3, 4, 5).

[FR Doc. 2020-00604 Filed 1-15-20; 8:45 am]

BILLING CODE 4909-60-P